DEPARTMENT OF EDUCATION

Striving Readers Program

AGENCY: Office of Elementary and Secondary Education, Department of Education.

ACTION: Notice inviting applications for new awards for fiscal year (FY) 2005; Modification.

Catalog of Federal Domestic Assistance (CFDA) Number: 84.371A.

SUMMARY: On August 15, 2005, the Department published in the Federal Register (70 FR 47816-47821) a notice inviting applications for new awards for FY 2005 for the Striving Readers program. In the notice inviting applications, we established certain eligibility requirements and two absolute priorities for the Striving Readers competition. We are now modifying the eligibility requirements to expand who may apply for a grant under this competition and modifying Priority Two—Comprehensive Reading Initiative Components—to clarify further the requirements under this priority.

DATES: All dates and deadlines published in the notice inviting applications remain the same.

FOR FURTHER INFORMATION CONTACT: Kathryn Doherty, U.S. Department of Education, 400 Maryland Avenue, SW., Room 3W309, Washington, DC 20202-6132. Telephone: (202) 205-6272 or by e-mail: StrivingReaders@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION:

Background

Subsequent to the publication on August 15, 2005 of the notice inviting applications for the Striving Readers competition, the Department conducted a series of teleconference briefings with more than 500 potential applicants to discuss the purposes of the competition, the funding priorities, the selection criteria, and the competition process. Based on questions and comments that we received during these teleconferences, we are modifying the notice inviting applications to expand who may apply for a grant under this competition and also modifying the Statement of Priority Two—Comprehensive Reading Initiative Components.

Modification of Applicant Eligibility Requirements

In the original notice inviting applications for the Striving Readers competition, we stated that eligible applicants were local educational agencies (LEAs) that—

1. Are eligible to receive funds under Part A of Title I of the Elementary and Secondary Education Act of 1965, as amended (ESEA), pursuant to section 1113 of the ESEA, and

2. Serve students in one or more grades in grades 6 through 12.

We also indicated that eligible LEAS may apply individually or, with other eligible LEAs, or in partnership with one or more of the following entities:

• State educational agencies (SEAs),

• Intermediate service agencies,

• Public or private institutions of higher education, and

• Public or private organizations with expertise in adolescent literacy and/or rigorous evaluation.

Finally, the original notice provided that in any partnership, the fiscal agent must be the eligible LEA.

In the teleconferences, a number of LEAs and some SEAs expressed interest in working with consortia of several school districts and having the SEA apply for the grant and serve as the fiscal agent for the grant. They requested that the eligibility requirements be modified to permit an SEA to partner with, and apply on behalf of, LEAs that meet the eligibility requirements described in the original notice inviting applications. We believe that a modification is warranted and are changing the eligibility requirements as follows:

Eligible Applicants: The following entities are eligible to apply for funding under this competition:

1. LEAs that—

(a) Are eligible to receive funds under Part A of Title I of the ESEA, pursuant to section 1113 of the ESEA, and

(b) Serve students in one or more grades in grades 6 through 12.

Eligible LEAs may apply individually, with other eligible LEAs, or in partnership with one or more of the following entities:

• SEAs,

• Intermediate service agencies,

• Public or private institutions of higher education, and

• Public or private organizations with expertise in adolescent literacy and/or rigorous evaluation.

2. SEAs on behalf of one or more LEAs that meet the requirements of paragraph 1.

SEAs must apply on behalf of one or more eligible LEAs and may also partner with one or more of the following entities:

• Intermediate service agencies,

• Public or private institutions of higher education, and

• Public or private organizations with expertise in adolescent literacy and/or rigorous evaluation.

For any application, the fiscal agent must be an eligible LEA or an SEA.

Modification of Priority Two

In the original notice inviting applications for the Striving Readers competition, we also established an absolute priority (Priority Two—Comprehensive Reading Initiative Components) that set forth required activities that must be conducted by all Striving Readers grantees. Under this priority, Striving Readers grantees must use funds awarded under the competition to support a comprehensive reading initiative that includes three essential components: (1) School-level strategies designed to increase reading achievement throughout the curriculum; (2) an intensive, targeted intervention for some or all struggling readers (i.e., students who read at least two years below grade level, including limited English proficient students and students with disabilities); and (3) a rigorous project evaluation that includes an experimental research evaluation of the intensive, targeted intervention for struggling readers.

Based on our telephone conferences, we are modifying this absolute priority to make several clarifications.

First, we recognize that there are many different school configurations and want to clarify that Striving Reading services may be carried out in schools that contain grades other than grades 6 through 12 (for example, kindergarten through grade 8 schools, grades 5 through 8 schools, or kindergarten through grade 12 schools). Second, we want to make it clear that under this priority, grantees must implement both school-level strategies to enhance reading achievement and intensive, targeted interventions, and these strategies and interventions must be directed at students in grades 6 and above only. Finally, we want to clarify when grantees must begin to provide these services.

The school-level strategies must focus on improving literacy for the entire grade span/student population in the grades 6 through 12 that are included in the school and be implemented in each of these grades no later than the start of the 2006-2007 school year. In a kindergarten through grade 12 school, for example, the school-level strategies must be designed to enhance the literacy skills of all students in grades 6 through 12. In a high school with grades 9 through 12, the school-level strategies must encompass all of the grades in the school. Further, the school-level strategies must be provided in all of the covered grade levels (i.e., grades 6 through 12) during each year of the project, beginning no later than the start of the 2006-2007 school year.

The targeted interventions must be for some or all students in grades 6 through 12 who are reading at least two years below grade level. In schools that include grades kindergarten through 8, for example, the targeted intervention must be targeted at struggling readers in one or more grades 6 through 8. However, the grantee would not have to provide targeted interventions to all struggling readers in grades 6 through 8. In this example, the targeted intervention must focus on all or some struggling readers either in a given grade level or in more than one grade in grades 6 through 8. Furthermore, the grantee must provide intensive, targeted intervention strategies during each year of the project beginning no later than the start of the 2006-2007 school year.

Statement of Priority Two—Comprehensive Reading Initiative Components

The applicant, if awarded a grant under this program, will use the funds to support a comprehensive reading initiative that includes the following components:

1. School-level strategies designed to increase reading achievement for students by integrating enhanced literacy instruction throughout the curriculum and the entire school. These strategies must include, at a minimum, a needs assessment, professional development, and a process for monitoring student performance. The school-level strategies must focus on improving literacy for the entire grade span/student population in the grades 6 through 12 that are included in the school and be implemented in each of these grades during each year of the project period beginning no later than the start of the 2006-2007 school year.

2. An intensive, targeted intervention for struggling readers (i.e., students who read at least two years below grade level, including limited English proficient students and students with disabilities). The intervention must include, at a minimum, assessments to identify struggling readers, a supplementary literacy intervention designed to accelerate the development of literacy skills for these readers, professional development for their teachers, and a process for monitoring student progress that includes the administration of student assessments. The intensive, targeted interventions must be for some or all struggling readers in one or more grades 6 through 12. The grantee must provide intensive, targeted intervention strategies during each year of the project period beginning no later than the start of the 2006-2007 school year.

3. A project evaluation that includes—

(a) A rigorous experimental research evaluation of the intensive, targeted intervention for struggling readers. The evaluation of the intensive, targeted intervention must be conducted by an independent evaluator and must include a randomized control trial; and

(b) A rigorous evaluation of the school-level strategies designed to increase reading achievement for students by integrating enhanced literacy instruction throughout the curriculum and the school. The evaluation of the school-level strategies must be conducted by an independent evaluator and may, but need not, include a randomized control trial.

To meet this priority, applicants must demonstrate that they have allocated sufficient program and other funds to carry out a high-quality evaluation of the proposed Striving Readers project. Applicants also will need to include a sufficient number of schools and students to support an experimental evaluation design of the targeted intervention in one or more grades in grades 6 through 12.

Waiver of Proposed Rulemaking: Under the Administrative Procedure Act (APA) (5 U.S.C. 553), the Department generally offers interested parties the opportunity to comment on eligibility requirements and priorities. Section 437(d)(1) of the General Education Provisions Act (20 U.S.C. 1232(d)(1)), however, allows the Secretary to exempt from rulemaking requirements, regulations governing the first grant competition under a new or substantially revised program authority. This is the first grant competition for this program under section 1502 of the Elementary and Secondary Education Act of 1965, as amended, and therefore qualifies for this exemption. In order to ensure timely grant awards, the Secretary has decided to forgo public comment on the modified eligibility requirements and priority in this notice under section 437(d)(1). These modified eligibility requirements and priority will apply to the FY 2005 grant competition and any subsequent awards we make based on the list of unfunded applications from this competition.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: 20 U.S.C. 6492.

Dated: September 27, 2005.
Henry Johnson,
Assistant Secretary for Elementary and Secondary Education.

[FR Doc. 05-19618 Filed 9-29-05; 8:45 am]

BILLING CODE 4000-01-P